DELAWARE RIVER BASIN COMMISSION

Notice of Commission Meeting and Public Hearing

Notice is hereby given that the Delaware River Basin Commission will hold an informal conference followed by a public hearing on Tuesday, March 7, 2000. The hearing will be part of the Commission's regular business meeting. Both the conference and business meeting are open to the public and will be held at the City of Reading City Hall, 815 Washington Street, Reading, PA.

The conference among the Commissioners and staff will begin at 10 a.m. and will include updates on the comprehensive planning process, the Pennsylvania soils GIS project, and the PCB strategy for the Delaware Estuary, respectively; a status report on the Delaware River flow needs study; discussion of the proposal for a Flood Advisory Committee; a status report on the possibility of elevating the road at F.E. Walter Reservoir; an update on the conservation storage agreement with the U.S. Army Corps of Engineers (U.S. ACE) for F.E. Walter Reservoir; a report on the February 16, 2000 meeting between DRBC and the U.S. ACE regarding project funding; and discussion of a proposed meeting among the commissioners to address restoration of federal funding.

In addition to the dockets listed below, which are scheduled for public hearing, the Commission will address the following at its 1 p.m. business meeting: minutes of the January 26, 2000 business meeting; announcements; report on Basin hydrologic conditions; reports by the Executive Director and General Counsel; and public dialogue. The Commission also will consider resolutions to: expand the Delaware Estuary Regional Information Management Service (“RIMS”) and establish a Basinwide Information Management Advisory Committee; re-authorize the Toxics Advisory Committee; and establish a Flood Advisory Committee.

The dockets scheduled for public hearing are as follows:

1. Hilltown Township Water & Sewer Authority D-92-20 CP RENEWAL

A renewal of the ground water withdrawal project to supply up to 16.02 million gallons (mg)/30 days of water to the applicant's public water distribution system from Wells Nos. 1, 2 and 5. Commission approval on November 4, 1992 was extended to ten years and will expire unless renewed. The applicant requests that the total withdrawal from all wells be increased from 10.02 mg/30 days to 16 mg/30 days. The project is located in Hilltown Township, Bucks County in the Southeastern Pennsylvania Ground Water Protected Area.

2. Wild Oaks Country Club D-98-2

A ground water withdrawal project to supply up to 8.5 mg/30 days of water from existing Wells Nos. 1, 2 and 3 to two existing holding ponds serving the applicant's golf course irrigation system and country club, and to limit the combined total withdrawal from all wells and holding ponds to 8.5 mg/30 days. The project is located in Quinton Township, Salem County, New Jersey.

3. Northeastern Power Company D-98-39

A project to increase the withdrawal from the Silverbrook Mine Pool from 3.4 mg/30 days to 6.0 mg/30 days to continue to serve the applicant's existing 50 megawatt cogeneration facility located just east of U.S. Route 309 in Kline Township, Schuylkill County, Pennsylvania.

4. Joseph Wick Nurseries, Ltd. D-99-15

A ground water withdrawal project to supply up to 56.04 mg/30 days of water to the applicant's irrigation system from the new Wright Farm Well and three existing wells, and to reduce the existing withdrawal limit of 71.4 mg/30 days from all wells to 56.04 mg/30 days. The project is located in Kent County, Delaware.

5. New Hanover Township D-99-40 CP

A project to construct a new 0.825 million gallons per day (mgd) tertiary sewage treatment plant (STP) to replace the applicant's existing 0.412 mgd plant and poorly performing spray irrigation system. Located just north of Swamp Creek approximately one-half mile east of the Fagleysville Road Bridge in New Hanover Township, Montgomery County, Pennsylvania, the STP will continue to serve a portion of New Hanover Township and discharge to Swamp Creek.

6. Pennsylvania Power & Light, Inc. (PP&L)/PP&L Global, Inc. and Lower Mount Bethel Energy, LLC D-99-54

A project to withdraw up to 4.87 mgd of Delaware River water, via the existing Units 3 and 4 intake operated by PP&L, Inc., to supply two proposed natural gas-fired power generators operated by a subsidiary of PP&L Global, Inc., Lower Mount Bethel Energy, LLC. The generators will be located on a 25-acre site adjacent to the northwest side of PP&L Inc.'s Martins Creek steam electric station in Lower Mount Bethel Township, Northampton County, Pennsylvania and will generate 600 megawatts of power. The project withdrawal will not exceed PP&L's approved withdrawal of 762 mg/30 days at its Units 3 and 4 intake. Approximately 4.1 mgd will be consumed and 0.76 mgd conveyed to the existing PP&L, Inc. industrial wastewater treatment facility for discharge to the Delaware River in Water Quality Zone 1D.

7. Chalfont-New Britain Township Joint Sewer Authority D-99-63 CP

An application to rerate the applicant's existing 5.0 mgd STP to 6.0 mgd. The STP will continue to provide advanced secondary treatment via a contact-stabilization plant operating in parallel with an anaerobic/aerobic treatment system in addition to minor modifications to allow additional storm-related inflow. The STP will continue to serve Chalfont and New Britain Boroughs and portions of New Britain, Plumstead, Buckingham and Doylestown Townships, all in Bucks County, Pennsylvania. Located south of Tamanend Avenue and east of Upper State Road in Doylestown Township, the STP will continue to discharge to Neshaminy Creek, a tributary of the Delaware River.

8. Bucks County Water & Sewer Authority D-99-70 CP

An application to rerate the applicant's existing Green Street STP from an 0.7 mgd average monthly flow to an 0.85 mgd maximum monthly flow to treat wet weather inflow. The STP is located on Green Street near the State Route 202 bypass in both Doylestown Borough and Doylestown Township, Bucks County, Pennsylvania and will continue to provide advanced secondary treatment for Doylestown Borough and Doylestown Township. The STP will continue to discharge to Country Club Run, a tributary of Neshaminy Creek.

9. Fieldstone Golf Club, L.P. D-99-74

A ground water withdrawal project to supply up to 6 mg/30 days of water to the applicant's golf course irrigation system from new Wells Nos. 1, 2 and 3, and to limit the withdrawal from all wells to 6 mg/30 days. The project is located near the Town of Greenville, New Castle County, Delaware.

Documents relating to these items may be examined at the Commission's offices. Preliminary dockets are available in single copies upon request. Please contact Thomas L. Brand at (609) 883-9500 ext. 221 concerning docket-related questions. Persons wishing to testify at this hearing are requested to register with the Secretary at (609) 883-9500 ext. 203 prior to the hearing.

Individuals in need of an accommodation as provided for in the Americans With Disabilities Act who wish to attend the hearing should contact the Secretary, Pamela M. Bush, at (609) 883-9500 ext. 203 or the New Jersey Relay Service at 1-800-852-7899 (TTY) to discuss how the Commission can accommodate your needs.

Dated: February 14, 2000.
Pamela M. Bush,
Secretary.

[FR Doc. 00-4391 Filed 2-24-00; 8:45 am]

BILLING CODE 6360-01-P